ENVIRONMENTAL PROTECTION AGENCY

[EPA-HQ-OW-2011-0442; FRL 9516-1]

Agency Information Collection Activities; Submission to OMB for Review and Approval; Comment Request; Microbial Rules (Renewal)

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before May 25, 2012.

ADDRESSES: Submit your comments, referencing Docket ID No. EPA-HQ-OW-2011-0442, by using one of the following methods:

• www.regulations.gov: (our preferred method) Follow the on-line instructions for submitting comments.

• Email: OW-Docket@epa.gov.

• Mail: (1) EPA Docket Center, Environmental Protection Agency, Water Docket, MC: 28221T, 1200 Pennsylvania Ave. NW., Washington, DC 20460, and (2) OMB by mail to: Office of Information and Regulatory Affairs, Office of Management and Budget (OMB), Attention: Desk Officer for EPA, 725 17th Street NW., Washington, DC 20503.

FOR FURTHER INFORMATION CONTACT: Matthew Reed, Drinking Water Protection Division, Office of Ground Water and Drinking Water (4606M), Environmental Protection Agency, 1200 Pennsylvania Ave. NW., Washington, DC 20460; telephone number: 202-564-4719; email address: reed.matthew@epa.gov.

SUPPLEMENTARY INFORMATION: EPA has submitted the following ICR to OMB for review and approval according to the procedures prescribed in 5 CFR 1320.12. On July 5, 2011 (76 FR 39092), EPA sought comments on this ICR pursuant to 5 CFR 1320.8(d). EPA received no comments during the comment period. Any comments on this ICR should be submitted to EPA and OMB within 30 days of this notice.

EPA has established a public docket for this ICR under Docket ID No. EPA-HQ-OW-2011-0442, which is available for online viewing at www.regulations.gov, or in person viewing at the Water Docket in the EPA Docket Center (EPA/DC), EPA West, Room 3334, 1301 Constitution Ave. NW., Washington, DC. The EPA/DC Public Reading Room is open from 8:30 a.m. to 4:30 p.m., Monday through Friday, excluding legal holidays. The telephone number for the Reading Room is 202-566-1744, and the telephone number for the Water Docket is 202-566-2426.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, confidential business information (CBI), or other information whose public disclosure is restricted by statute. For further information about the electronic docket, go to www.regulations.gov.

Title: Microbial Rules (Renewal).

ICR numbers: EPA ICR No. 1895.07, OMB Control No. 2040-0205.

ICR Status: This ICR is scheduled to expire on April 30, 2012. Under OMB regulations, the Agency may continue to conduct or sponsor the collection of information while this submission is pending at OMB. An Agency may not conduct or sponsor, and a person is not required to respond to, a collection of information, unless it displays a currently valid OMB control number. The OMB control numbers for EPA's regulations in title 40 of the Code of Federal Regulations, after appearing in the Federal Register when approved, are listed in 40 CFR part 9, are displayed either by publication in the Federal Register or by other appropriate means, such as on the related collection instrument or form, if applicable. The display of OMB control numbers in certain EPA regulations is consolidated in 40 CFR part 9.

Abstract: The Microbial Rules ICR examines Public Water System, primacy agency, and EPA burden and costs for recordkeeping and reporting requirements in support of the microbial drinking water regulations. These recordkeeping and reporting requirements are mandatory for compliance with 40 CFR parts 141 and 142. The following microbial regulations are included: Surface Water Treatment Rule (SWTR), Total Coliform Rule (TCR), Interim Enhanced Surface Water Treatment Rule (IESWTR), Filter Backwash Recycling Rule (FBRR), Long Term 1 Enhanced Surface Water Treatment Rule (LT1ESWTR), Long Term 2 Enhanced Surface Water Treatment Rule (LT2ESWTR), Ground Water Rule (GWR), and the Aircraft Drinking Water Rule (ADWR). Although the Aircraft Drinking Water Rule has a stand-alone ICR at this time, it is being included into the Microbial ICR due to the nature of information collected. The information collected for the Aircraft Drinking Water Rule is directly correlated to information collected under the Total Coliform Rule, and therefore, is appropriate to be included in the Microbial ICR. Future microbial-related rulemakings will be added to this consolidated ICR after the regulations are finalized and the initial, rule-specific, ICRs are due to expire.

Burden Statement: The annual public reporting and recordkeeping burden for this collection of information is estimated to average 0.45 hours per response. Burden means the total time, effort or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Respondents/Affected Entities: Owners/operators of public water systems, commercial air carriers, state primacy agencies.

Estimated Number of Respondents: 153,083.

Frequency of Response: Varies by requirement (i.e., on occasion, monthly, quarterly, semi-annually, annually, biennially, and every 3, 6, and 9 years)

Estimated Total Annual Hour Burden: 12,920,667.

Estimated Total Annual Cost: $589,403,000, includes $135,346,345 operating and maintenance and capital costs.

Changes in the Estimates: There is an increase of 2,250,751 hours in the total estimated burden currently identified in the OMB Inventory of Approved ICR Burdens. The changes in burden consist of program adjustments for activities that were carried forward from existing ICRs to this Microbial Rules ICR renewal. Changes in calculated burden are a result of updating relevant baseline information for each rule with the most current and accurate information on activity compliance.

John Moses,
Director, Collection Strategies Division.

[FR Doc. 2012-9897 Filed 4-24-12; 8:45 am]

BILLING CODE 6560-50-P